FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted
[August 1, 2016 thru August 31, 2016]
08/01/2016
20161409 | G | Elliott International Limited; LifeLock, Inc.; Elliott International Limited.
20161410 | G | Elliott Associates, L.P.; LifeLock, Inc.; Elliott Associates, L.P.
20161463 | G | Wolseley plc; Michael Butler; Wolseley plc.
20161482 | G | Flextronics International Ltd.; Bose 2010 Special Purpose Trust; Flextronics International Ltd.
20161507 | G | Lions Gate Entertainment Corp.; Starz; Lions Gate Entertainment Corp.
08/02/2016
20161414 | G | LSF9 Cypress LP; Superior Plus Corp.; LSF9 Cypress LP.
20161485 | G | VGD Buyer, LLC; Frank Fertitta III; VGD Buyer, LLC.
20161486 | G | VGD Buyer, LLC; Lorenzo Fertitta; VGD Buyer, LLC.
20161499 | G | Wirecard AG; Citigroup Inc.; Wirecard AG.
20161514 | G | Unilever N.V.; Dollar Shave Club, Inc.; Unilever N.V.
08/03/2016
20161441 | G | Nippon Paper Industries Co., Ltd.; Weyerhaeuser Co.; Nippon Paper Industries Co., Ltd.
08/04/2016
20161240 | G | International Paper Company; Weyerhaeuser Company; International Paper Company.
20161371 | G | Chamly Aspen Trust; Axiall Corporation; Chamly Aspen Trust.
20161511 | G | ISQ Global Infrastructure Fund, L.P.; Alcoa Inc.; ISQ Global Infrastructure Fund, L.P.
08/08/2016
20151767 | G | Konecranes Plc; Terex Corporation; Konecranes Plc.
20161037 | G | Experian plc; Investcorp CSID Holdings, LLC; Experian plc.
20161451 | G | Terex Corporation; Konecranes Plc; Terex Corporation.
20161508 | G | Evolent Health, Inc.; Valence Health, Inc.; Evolent Health, Inc.
20161523 | G | Headwaters Incorporated; William E. Robinson, Jr.; Headwaters Incorporated.
20161525 | G | Triangle Private Investments, LLC; Polycom, Inc.; Triangle Private Investments, LLC.
20161526 | G | Fidelity National Financial, Inc.; CINC Superior Holdings LLC; Fidelity National Financial, Inc.
20161527 | G | EQT Midstream Partners, LP; EQT Corporation; EQT Midstream Partners, LP.
20161530 | G | Halmont Properties Corporation; Energy Future Holdings Corp.; Halmont Properties Corporation.
20161531 | G | Brookfield Capital Partners Fund III LP; Energy Future Holdings Corp.; Brookfield Capital Partners Fund III LP.
20161532 | G | North Haven Infrastructure Partners II AIV-I L.P.; Randall Broda; North Haven Infrastructure Partners II AIV-I L.P.
20161536 | G | AP VIII Aspen Holdings, L.P.; Outerwall Inc.; AP VIII Aspen Holdings, L.P.
20161540 | G | AF IV Energy AIV B1, L.P.; Clayton Williams Energy, Inc.; AF IV Energy AIV B1, L.P.
20161551 | G | Refresco Group N.V.; The Jerry Whitlock Living Trust; Refresco Group N.V.
08/09/2016
20161462 | G | KKR Element Aggregator L.P.; Eagle Topco LP; KKR Element Aggregator L.P.
20161476 | G | Abrams Capital Partners II, L.P.; NorthStar Asset Management Group Inc.; Abrams Capital Partners II, L.P.
20161524 | G | SAF-Holland S.A.; Haldex AB; SAF-Holland S.A.
20161537 | G | Co-Investor 3 L.L.C.; NextEra Energy, Inc.; Co-Investor 3 L.L.C.
08/10/2016
20161488 | G | U.S. Silica Holdings, Inc.; New Birmingham, Inc.; U.S. Silica Holdings, Inc.
20161515 | G | Susanne Klatten; Ovivo Inc.; Susanne Klatten.
08/11/2016
20160865 | G | Intercontinental Exchange, Inc.; McGraw Hill Financial, Inc.; Intercontinental Exchange, Inc.
08/12/2016
20161492 | G | Santen Pharmaceutical Co., Ltd.; InnFocus Inc.; Santen Pharmaceutical Co., Ltd.
20161521 | G | Avast Holding B.V.; AVG Technologies N.V.; Avast Holding B.V.
20161544 | G | Hainan Cihang Charitable Foundation; Marilyn Carlson Nelson 1998 GST Exempt Family Trust; Hainan Cihang Charitable Foundation.
20161545 | G | Hainan Cihang Charitable Foundation; Barbara Carlson Gage 1998 GST Exempt Family Trust; Hainan Cihang Charitable Foundation.
20161553 | G | SAS Rue La Boetie; Infra Foch Topco SAS; SAS Rue La Boetie.
20161555 | G | salesforce.com, inc.; Quip, Inc.; salesforce.com, inc.
20161559 | G | The Goldman Sachs Group, Inc.; Navico Holding AS; The Goldman Sachs Group, Inc.
20161560 | G | Altor Holding AB; Navico Holding AS; Altor Holding AB.
20161561 | G | Bret Taylor; salesforce.com, inc.; Bret Taylor.
20161562 | G | Klondex Mines Ltd.; Waterton Precious Metals Fund II Cayman, LP; Klondex Mines Ltd.
20161564 | G | TA XI L.P.; Robert D. and Gwendolyn A. Tyler; TA XI L.P.
20161566 | G | G-III Apparel Group, Ltd.; Bernard Arnault; G-III Apparel Group, Ltd.
20161570 | G | Platinum Equity Capital Partners III, L.P.; Fabcon Companies, LLC; Platinum Equity Capital Partners III, L.P.
20161573 | G | KIA IX (Snow) Investor, L.P.; Phyllis R. Cretors; KIA IX (Snow) Investor, L.P.
20161575 | G | Revelstoke Capital Partners Fund I, L.P.; Shore Capital Partners Fund IV, L.P.; Revelstoke Capital Partners Fund I, L.P.
20161581 | G | Compass Diversified Holdings; TA X L.P.; Compass Diversified Holdings.
08/15/2016
20161337 | G | SLP IV Castle Feeder I, L.P.; Talent Holdings, LLC; SLP IV Castle Feeder I, L.P.
20161517 | G | Gryphon Partners IV, L.P.; Carousel Capital Partners IV, L.P.; Gryphon Partners IV, L.P.
20161535 | G | Nestle S.A.; Roche Holding Ltd.; Nestle S.A.
20161552 | G | The Kroger Co.; ACP Investment Fund, L.P.; The Kroger Co.
20161556 | G | EnCap Flatrock Midstream Fund II, L.P.; NGP Natural Resources X, L.P.; EnCap Flatrock Midstream Fund II, L.P.
20161557 | G | Providence Equity Partners VI-A L.P.; Providence Equity Partners VI L.P.; Providence Equity Partners VI-A L.P.
20161567 | G | U.S. Silica Holdings, Inc.; Sandy Creek Capital, LLC; U.S. Silica Holdings, Inc.
20161568 | G | LeverageSource, L.P.; Energy Future Holdings Corp.; LeverageSource, L.P.
20161572 | G | Q Super Holdings, Inc.; Roark Capital Partners II, LP; Q Super Holdings, Inc.
08/16/2016
20161502 | G | NewCo; 2003 TIL Settlement; NewCo.
20161578 | G | Jaguar Holding Company I; STG IV, L.P.; Jaguar Holding Company I.
08/17/2016
20161467 | G | Agrium Inc.; Cargill, Incorporated; Agrium Inc.
08/19/2016
20161580 | G | Yong Wang; Toronto Oak Trust; Yong Wang.
20161590 | G | Myriad Genetics, Inc.; Assurex Health, Inc.; Myriad Genetics, Inc.
20161592 | G | ABRY Partners VIII, L.P.; American International Group, Inc.; ABRY Partners VIII, L.P.
20161595 | G | Dentsu Inc.; Merkle Group Inc.; Dentsu Inc.
20161598 | G | Nissha Printing Co., Ltd.; WestView Capital Partners II, L.P.; Nissha Printing Co., Ltd.
20161618 | G | AP VIII Eagle LM5 Holdings, L.P.; Constellis Holdings, LLC; AP VIII Eagle LM5 Holdings, L.P.
08/22/2016
20161604 | G | Carlyle Partners VI, L.P.; Damien Lamendola; Carlyle Partners VI, L.P.
08/23/2016
20161516 | G | Smith & Wesson Holding Corporation; Crimson Trace Holdings, LLC; Smith & Wesson Holding Corporation.
20161574 | G | OCP Trust; EPIQ Systems, Inc.; OCP Trust.
20161576 | G | Harvest Partners VII, L.P.; OCP Trust; Harvest Partners VII, L.P.
20161603 | G | Bridge Growth Partners, LP; Spectrum Equity Investors VI, L.P.; Bridge Growth Partners, LP.
08/24/2016
20161605 | G | PFS Holdings LLC; Big Bear Holdings Corp.; PFS Holdings LLC.
20161616 | G | Tesla Motors, Inc.; SolarCity Corporation; Tesla Motors, Inc.
08/25/2016
20161577 | G | ScanSource, Inc.; Intelisys Communications, Inc.; ScanSource, Inc.
08/26/2016
20161479 | G | Henkel AG & Co. KGaA; Spotless Group Holding LLC; Henkel AG & Co. KGaA.
20161609 | G | The Scotts Miracle-Gro Company; Treg C. Bradley; The Scotts Miracle-Gro Company.
20161613 | G | NRG Energy, Inc.; SunEdison, Inc.; NRG Energy, Inc.
20161614 | G | Steinhoff International Holdings N.V.; Mattress Firm Holding Corporation; Steinhoff International Holdings N.V.
20161622 | G | Luigi Agrati; Monomoy Capital Partners II, L.P.; Luigi Agrati.
20161629 | G | Hi-Crush Partners LP; Hi-Crush Proppants LLC; Hi-Crush Partners LP.
20161633 | G | KKR North America Fund XI, L.P.; Calabrio, Inc.; KKR North America Fund XI, L.P.
20161636 | G | FR XIII Foxtrot AIV, L.P.; Applied-Cleveland Holding Company, LLC; FR XIII Foxtrot AIV, L.P.
20161647 | G | Investor AB; Audax Private Equity Fund III, L.P.; Investor AB.
20161648 | G | Fortune Brands Home & Security, Inc.; Rohl, LLC; Fortune Brands Home & Security, Inc.
20161652 | G | Aurora Equity Partners V L.P.; Solaray, LLC; Aurora Equity Partners V L.P.
20161659 | G | Randstad Holding nv; Monster Worldwide, Inc.; Randstad Holding nv.
20161661 | G | EQT VII (No. 1) Limited Partnership; Press Ganey Holdings, Inc.; EQT VII (No. 1) Limited Partnership.
08/30/2016
20161588 | G | Partners Group Access 871 L.P.; SMS-THL Holdings I, Inc.; Partners Group Access 871 L.P.
20161627 | G | CenterOak Equity Fund I, L.P.; Levine Leichtman Capital Partners III, L.P.; CenterOak Equity Fund I, L.P.
20161634 | G | KBR, Inc.; Honeywell International Inc.; KBR, Inc.
08/31/2016
20161571 | G | E*Trade Financial Corporation; General Atlantic Partners 96, L.P.; E*Trade Financial Corporation.
20161630 | G | Warburg Pincus Private Equity XI, L.P.; Avalara, Inc.; Warburg Pincus Private Equity XI, L.P.
20161641 | G | CCMP Capital Investors III, L.P.; Jerry Newman Carr; CCMP Capital Investors III, L.P.
20161643 | G | CCMP Capital Investors III, L.P.; William Henry Carr; CCMP Capital Investors III, L.P.

For Further Information Contact:

Theresa Kingsberry, Program Support Specialist, Federal Trade Commission Premerger Notification Office Bureau of Competition, Room CC-5301, Washington, DC 20024, (202) 326-3100.

By direction of the Commission.
Donald S. Clark,
Secretary.

[FR Doc. 2016-22282 Filed 9-15-16; 8:45 am]

BILLING CODE 6750-01-P